DEPARTMENT OF DEFENSE

Department of Army; Corps of Engineers

Intent To Prepare A Joint Environmental Impact Statement/Environmental Impact Report for the Peninsula Beach Feasibility Study, Long Beach, Los Angeles County, CA

AGENCY: Department of the Army, U.S. Army Corps of Engineers, DoD.

ACTION: Notice of Intent.

SUMMARY: The U.S. Army Corps of Engineers (Corps) and the city of Long Beach propose to assess the feasibility of providing additional storm damage protection for a portion of the Peninsula Beach between the Alamitos Bay west jetty and approximately 54th Place.

DATES: A scoping meeting will be held on November 13, 2002, at 6:30 p.m., in the Belmont Plaza Pool, 4000 Olympic Plaza, Long Beach, California.

FOR FURTHER INFORMATION CONTACT: Questions regarding the scoping process or preparation of the Environmental Impact Statement/Environmental Impact Report (EIS/EIR) may be directed to Mr. Paul Rose, Chief, Environmental Resources Branch, U.S. Army Corps of Engineers, PO Box 532711, Los Angeles, CA 90053-2325, (213) 452-3840.

SUPPLEMENTARY INFORMATION: 1. Proposed Action: Peninsula Beach is a chronically narrow beach that has undergone repeat nourishment projects by the City of Long Beach to provide an adequate beach width for protection of homes and beach facilities, and recreation opportunities for local residents and other beach users.

The gap between the tip of Alamitos Bay west jetty and the east end of the Long Beach Breakwater allows waves to pass through and to directly impact the shoreline at Peninsula Beach. The long-term trend in sediment transport is expected to be to the west. The Corps has estimated the annual sediment loss to be about 55,000 cubic meters.

Due to the sediment loss, there is a potential danger of flooding when wave runup overtops the bulkhead or goes around either end and runs into homes.

2. Alternatives: Alternatives that may be considered include beach nourishment, perched beach, revetment/seawall, submerged breakwater, groins and/or t-groins, and no-project.

3. Scoping Process: The Corps and the City of Long Beach are preparing a joint EIS/EIR to address potential impacts associated with the proposed project. The Corps is the Lead Federal Agency for compliance with National Environmental Policy Act (NEPA) for the project, and the City of Long Beach is the Lead State Agency for compliance with the California Environmental Quality Act (CEQA) for the non-Federal aspects of the project. The Draft EIS/EIR (DEIS/EIR) document will incorporate public concerns in the analysis of impacts associated with the Proposed Action and associated project alternatives. The DEIS/EIR will be sent out for a 45-day public review period, during which time both written and verbal comments will be solicited on the adequacy of the document. The Final EIS/EIR (FEIS/EIR) will address the comments received on the DEIS/EIR during public review, and will be furnished to all who commented on the DEIS/EIR, and is made available to anyone that requests a copy during the 30-day public comment period. The final step involves, for the federal EIS, preparing a Record of Decision (ROD) and, for the state EIR, certifying the EIR and adopting a Mitigation Monitoring and Reporting Plan. The ROD is a concise summary of the decisions made by the Corps from among the alternatives presented in the FEIS/EIR.

The ROD can be published immediately after the FEIS public comment period ends. A certified EIR indicates that the environmental document adequately assesses the environmental impacts of the proposed project with the respect to CEQA. A formal scoping meeting to solicit public comment and concerns on the proposed action and alternatives will be held on Wednesday, November 13, 2002 (see DATES).

Dated: October 31, 2002.
Richard G. Thompson,
Colonel, Corps of Engineers, District Engineer.

[FR Doc. 02-28359 Filed 11-6-02; 8:45 am]

BILLING CODE 3710-KF-M